DEPARTMENT OF THE INTERIOR

Fish and Wildlife Service

[Docket No. FWS-HQ-IA-2017-0059; FXIA16710900000-156-FF09A30000]

Foreign Endangered Species Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and the Marine Mammal Protection Act (MMPA).

ADDRESSES: Documents and other information submitted with these applications are available for review, subject to the requirements of the Privacy Act and Freedom of Information Act, by any party who submits a written request for a copy of such documents to the U.S. Fish and Wildlife Service, Division of Management Authority, Branch of Permits, MS: IA, 5275 Leesburg Pike, Falls Church, VA 22041; fax (703) 358-2281. To locate the Federal Register notice that announced our receipt of the application for each permit listed in this document, go to www.regulations.gov and search on the permit number provided in the tables in SUPPLEMENTARY INFORMATION.

FOR FURTHER INFORMATION CONTACT: Joyce Russell, (703) 358-2023 (telephone); (703) 358-2281 (fax); or DMAFR@fws.gov (email).

SUPPLEMENTARY INFORMATION: On the dates below, as authorized by the provisions of the ESA, as amended (16 U.S.C. 1531 et seq.; ESA), we issued requested permits subject to certain conditions set forth therein. For each permit for an endangered species, we found that (1) the application was filed in good faith, (2) the granted permit would not operate to the disadvantage of the endangered species, and (3) the granted permit would be consistent with the purposes and policy set forth in section 2 of the ESA.

Permit number | Applicant | Receipt of application Federal Register notice | Permit issuance date
26612C | U.S. Centers for Disease Control and Prevention | 82 FR 28348; June 21, 2017 | July 26, 2017.
19878C | Schubot Exotic Bird Health Center | 82 FR 25615; June 2, 2017 | July 17, 2017.
24212C | University of Alaska Fairbanks | 82 FR 25616; June 2, 2017 | July 27, 2017.
64163A | NH&S Holdings, LLC | 82 FR 24382; May 26, 2017 | July 27, 2017.
93674B | International Crane Foundation | 82 FR 28348; June 21, 2017 | July 28, 2017.
71315A | Arizona Tortoise Compound | 79 FR 65981; November 6, 2014 | February 5, 2015.

Authority: We issue this notice under the authority of the ESA, as amended (16 U.S.C. 1531 et seq.).

Joyce Russell,
Government Information Specialist, Branch of Permits, Division of Management Authority.

[FR Doc. 2017-21556 Filed 10-5-17; 8:45 am]

BILLING CODE 4333-15-P